DEPARTMENT OF TRANSPORTATION

Bureau of Transportation Statistics

[Docket Number DOT-OST-2025-1062]

Agency Information Collection Activity; Notice of Request for Approval To Collect New Information: Crash Causal Factors Program Heavy-Duty Truck Study Interview Data Collection; Correction

AGENCY: Bureau of Transportation Statistics (BTS), Office of the Assistant Secretary for Research and Technology (OST-R), U.S. Department of Transportation.

ACTION: Notice; correction.

SUMMARY: The Department of Transportation is correcting a notice published in the September 2, 2025, issue of the Federal Register entitled “Notice of Request for Approval to Collect New Information: Crash Causal Factors Program Heavy-Duty Truck Study Interview Data Collection.” This correction amends the docket number of the notice from OST-2025-* * * * to read DOT-OST-2025-1062 and modifies the billing code to 4910-9X-P.

DATES: The correction takes effect on September 8, 2025.

FOR FURTHER INFORMATION CONTACT: Allison Fischman, allison.fischman@dot.gov, 202-366-3282.

SUPPLEMENTARY INFORMATION:

Correction

In the Federal Register of September 2, 2025, in FR Doc. 2025-16734, appearing on page 42507, the following corrections are made:

1. On page 42507, in the second column, in the document heading, the docket number “Docket Number OST-2025-* * * *” is corrected to read, “Docket Number DOT-OST-2025-1062”.

2. On page 42507, in the third column, in the Addresses section, the docket number “Docket Number: OST-2025-* * * *” is corrected to read, “Docket Number: DOT-OST-2025-1062”.

3. On page 42508, in the second column, the billing code “BILLING CODE P” is corrected to read, “BILLING CODE 4910-9X-P”.

Dated: September 3, 2025.
Allison Fischman,
Director, Office of Safety Data & Analysis.

[FR Doc. 2025-17107 Filed 9-5-25; 8:45 am]

BILLING CODE 4910-9X-P